DEPARTMENT OF HEALTH AND HUMAN SERVICES

Administration for Children and Families

[Notice of Program Announcement No. ACF/ACYF 2001-02]

Fiscal Year 2001 Discretionary Announcement for Select Areas of Early Head Start; Availability of Funds and Request for Applications

AGENCY: Administration on Children, Youth and Families (ACYF), ACF, DHHS.

ACTION: Notice of Fiscal Year 2001 Early Head Start availability of financial assistance for select areas and request for applications.

SUMMARY: The Administration on Children, Youth and Families announces financial assistance to be competitively awarded to local public and local non-profit and for-profit private entities—including Early Head Start and Head Start grantees—to provide child and family development services for low-income families with children under age three and pregnant women. Early Head Start programs provide early, continuous, intensive and comprehensive child development and family support services on a year-round basis to low-income families. The purpose of the Early Head Start program is to enhance children's physical, social, emotional, and intellectual development; to support parents' efforts to fulfill their parental roles; and to help parents move toward self-sufficiency.

The funds available will be competitively awarded to eligible applicants to operate Early Head Start programs in select service areas.

Grants will be competitively awarded to eligible applicants, including current Head Start and Early Head Start grantees, to operate Early Head Start programs in geographic areas currently served by existing Early Head Start research grantees which were first funded in fiscal years 1995 and 1996 and other Early Head Start grantees first funded in fiscal year 1996 (see list below for the geographic areas). In awarding these grants, ACYF is interested in assuring that communities currently served by these existing grantees will have an opportunity to continue receiving services to low-income families with infants and toddlers and pregnant women through Early Head Start. Applicants in each geographic area will compete for funds against other applicants wishing to serve the same geographic area. There are 83 such competitive areas.

DATES: The closing date and time for receipt of applications is 5 p.m. EST on November 13, 2000.

Note: Applications should be submitted to the ACYF Operations Center at: 1815 N. Fort Myer Drive, Suite 300, Arlington, VA 22209. However, prior to preparing and submitting an application, in order to satisfactorily compete under this announcement, it will be necessary for potential applicants to read the full announcement which is available through the addresses listed below.

ADDRESSES: A copy of the program announcement, necessary application forms, and appendices can be obtained by contacting: Early Head Start, ACYF Operations Center, 1815 North Fort Myer Drive, Suite 300 Arlington, Virginia 22209. The telephone number is 1-800-351-2293, or email to: ehs@lcgnet.com.

Copies of the program announcement and necessary application forms can be downloaded from the Head Start web site at: www.acf.dhhs.gov/programs/hsb

FOR FURTHER INFORMATION CONTACT: ACYF Operations Center at: 1815 N. Fort Myer Drive, Suite 300, Arlington, VA 22209 or telephone: 1-800-351-2293 or email to: ehs@lcgnet.com

SUPPLEMENTARY INFORMATION: Eligible Applicants: Applicants eligible to apply to become an Early Head Start program are local public and local non-profit and for-profit private entities. Early Head Start and Head Start grantees are eligible to apply.

Project Duration: The competitive awards made through this announcement will be for one-year budget periods and an indefinite project period. Subsequent year budget awards will be made non-competitively, subject to availability of funds and the continued satisfactory performance of the applicant. Current EHS grantees in good standing, who submit acceptable applications, will be given priority in funding decisions.

Federal Share of Project Costs: In most cases, the Federal share will not be more than 80 percent of the total approved costs of the project.

Matching Requirements: Grantees that operate Early Head Start programs must, in most instances, provide a non-Federal contribution of at least 20 percent of the total approved costs of the project.

Available Funds: See attached list of the service areas for the approximate amount of funds available for each area.

Anticipated Number of Projects to be Funded: It is estimated that there will be at least one award for each of the 83 geographic areas.

Statutory Authority: The Head Start Act, as amended, 42 U.S.C. 9831 et seq.

Evaluation Criteria

Competing applications for financial assistance will be reviewed and evaluated on the six criteria which are summarized below. The point values following each criterion indicate the numerical weight each criterion will be accorded in the review process.

Criterion 1. Objectives and Need for Assistance (15 Points)

The extent to which, based on community assessment information, the applicant identifies any relevant physical, economic (e.g., poverty in the community), social, financial, institutional, or other issues which demonstrate a need for the Early Head Start program.

The extent to which the applicant lists relevant program objectives that adequately address the strengths and needs of the community.

The extent to which the applicant describes the population to be served by the project and explains why this population is most in need of the services to be provided by the program.

The extent to which the applicant gives a precise location and rationale for the project site(s) and area(s) to be served by the proposed project.

Criterion 2. Results or Benefits Expected (10 Points)

The extent to which the applicant identifies the results and benefits to be derived from the project and links these to the stated objectives.

The extent to which the applicant describes the kinds of data to be collected and how they will be utilized to measure progress towards the stated results or benefits.

Criterion 3. Approach (25 Points)

The extent to which the applicant demonstrates a thorough knowledge and understanding of the Head Start Program Performance Standards.

The extent to which the applicant explains why the approach chosen is effective in light of the needs, objectives, results and benefits described above.

The extent to which the approach is grounded in recognized standards and/or guidelines for high quality service provision or is defensible from a research or “best practices” standpoint.

Criterion 4. Staff and Position Data and Organization Profiles (15 Points)

The extent to which the proposed program director, proposed key project staff, the organization's experience, including experience in providing early, continuous, and comprehensive child and family development services, and the organization's history with the community demonstrate the ability to effectively and efficiently administer a project of this size, complexity and scope.

The extent to which the applicant's management plan demonstrates sufficient management capacity to implement a high quality Early Head Start program.

The extent to which the organization demonstrates an ability to carry out continuous improvement activities.

Criterion 5. Third Party Agreements/Collaboration (15 Points)

The extent to which the applicant presents documentation of efforts (letters of commitment, interagency agreements, etc.) to establish and maintain ongoing collaborative relationships with community partners.

The extent and thoroughness of approaches to combining Early Head Start resources and capabilities with those of other local child care agencies and providers to provide high quality child care services to infants and toddlers which meet the Head Start Program Performance Standards.

Criterion 6. Budget and Budget Justification (20 points)

The extent to which the program's costs are reasonable in view of the planning and activities to be carried out and the anticipated outcomes.

The extent to which the program has succeeded in garnering cash or in-kind resources, in excess of the required Federal match, from local, State, other Federal or private funding sources. The extent to which costs for facilities are reasonable and cost effective.

The extent to which the salaries and fringe benefits reflect the level of compensation appropriate for the responsibilities of staff.

The extent to which assurances are provided that the applicant can and will contribute the non-Federal share of the total project cost.

Required Notification of the State Single Point of Contact

This program is covered under Executive Order 12372, “Intergovernmental Review of Federal Programs,” and 45 CFR Part 100, “Intergovernmental Review of Department of Health and Human Services Programs and Activities.” Under the Order, States may design their own processes for reviewing and commenting on proposed Federal assistance under covered programs.

All States and territories except Alabama, Alaska, Colorado, Connecticut, Hawaii, Idaho, Kansas, Louisiana, Massachusetts, Minnesota, Montana, Nebraska, New Jersey, New York, Ohio, Oklahoma, Oregon, Pennsylvania, South Dakota, Tennessee, Vermont, Virginia, Washington, American Samoa, and Palau have elected to participate in the Executive Order process and have established Single Points of Contact (SPOCs). Applicants from these jurisdictions need not take action regarding Executive Order 12372.

Applications for projects to be administered by Federally recognized Indian Tribes are also exempt from the requirements of Executive Order 12372. Otherwise, applicants should contact their SPOC as soon as possible to alert them to the prospective application and to receive any necessary instructions. Applicants must submit any required material to the SPOC as early as possible so that the program office can obtain and review SPOC comments as part of the award process. It is imperative that the applicant submit all required materials, if any, to the SPOC and indicate the date of this submittal (or date of contact if no submittal is required) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to the ACF, they should be addressed to: William Wilson, Head Start Bureau, Grants Officer, 330 C Street SW., Room 2220, Washington, DC 20447, Attn: Early Head Start Competition for Select Service Areas.

A list of the Single Points of Contact for each State and Territory can be found on the following web site: http://www.hhs.gov/progorg/grantsnet/laws-reg/spoc399.htm

(Catalog of Federal Domestic Assistance Program Number 93.600, Project Head Start)
Dated: September 6, 2000.
Patricia Montoya,
Commissioner, Administration on Children, Youth and Families.

Early Head Start: Consolidated Service Area Matrix—Fiscal Year 2001
State | County | Funding for the following counties | Current service area(s)
Alaska |  | $797,487 | Fairbanks North Star Borough (as defined by Alaska Native Claims Settlement Act (43 U.S.C 1602 (c)).
Arizona | Maricopa | 895,843 | Chandler, Guadelupe, Mesa, Glendale and Dysart.
Arkansas | Conway Franklin Johnson Logan Pope Yell | 1,295,089 | Entire County. Entire County. Entire County. Entire County. Entire County. Entire County.
California | El Dorado | 884,818 | Shingle Springs, El Dorado Hills, Cameron Park, Placerville, Georgetown/Kelsey, Camino Polock Pines, Tahoe Basin.
| Fresno | 752,322 | City of Fresno.
| Los Angeles | 1,348,756 | Cities of Santa Monica, West Los Angeles, Culver City, Inglewood, Lennox, Westchester, Venice, Palms and Mar Vista. Bounded on the: North by Wilshire Blvd to Sepulveda to Olympic, East by Beverly Drive to Pico to Durango to La Cienega to Jefferson to Sepulveda to Centinela to Prairie; South by Imperial Highway to Sepulveda to Lincoln to Admiralty Way to Washington, West by the Pacific Ocean.
| Nevada Placer | 1,077,655 | N. San Juan, Grass Valley, Nevada City. Kings Beach, Truckee, Rockland, Forresthill, and Lincoln.
| San Mateo | 641,039 | Half Moon Bay.
Colorado | Denver | 1,051,911 | Northwest Denver, bordered by Sheridan Blvd. on the West, I70 on the North, I25 on the East, and Almeda Blvd. on the South.
| Denver | 1,380,779 | Five Points, Cole, East Colfax, Whittier, Clayton, Northeast Park Hill, Cheeseman Park, Montbello and City Park. Bounded to the north by Broadway and 38th Ave., east to Yosemite, south to 11th Ave., west to Quebec; Quebec south to Hampden, Hampden west to Broadway, Broadway north to 35th Ave.
| Fremont | 519,300 | Entire county.
District of Columbia | N/A | 670,958 | In Ward One an area enclosed by: Northeast—Spring Road, Northwest—Piney Branch Parkway, East-Michigan Avenue to Florida Avenue, Southeast—S Street, West—Rock Creek. In Ward Two an area enclosed by: Northeast—New Jersey, Florida Avenue and S Street, Northwest—Florida Avenue, East—Florida Avenue and Southwest Freeway, Southeast—Anacostia River, West—Potomac River. In Ward Four an area enclosed by: Northeast—Eastern Avenue, Northwest—Western Avenue, Southeast—Michigan Avenue, Southwest—Rock Creek. In Ward Five an area enclosed by: Northeast—Eastern Avenue, Northwest—South Dakota, Southeast—Anacostia River, Southwest—Florida Avenue, West—Harewood Road.
|  | 844,320 | Shepherd Park, Upper Cordoza, Adams Morgan and Mount Pleasant.
Florida | Collier Desota Glades Hardee Hendry Highlands | 1,611,064 | Entire county. Entire county. Entire county. Entire county. Entire county. Entire county.
| Gadsden Leon | 648,345 | Quincy, Havana, Gretna City of Tallahassee (1) Bordered on the north by Apalachee, East by Capital Circle E., South by Paul Russell Rd., and West by S. Monroe St.; (2) Bordered on the North by Tharp St., East by N. Monroe St., South by Tennessee St., and West by Capital Circle W.; (3) Bordered on the North by Tennessee St., East by S. Monroe St., South by Orange Ave., and West by Capital Circle W. (4) Bordered on the North by Orange Ave., East by Woodville Highway, South by Capital Circle S., and West by Capital Circle SW.; (5) Bordered on North by Paul Russell Rd., East by Capital Circle SE, South by Capital Circle S., and West by Woodville.
| Hillsboro | 1,227,951 | Cities of Tampa and Plant City.
Hawaii | Oahu Oahu | 635,745 453,443 | Waipahu to Hawaii Kai. Kai (Koolauloa).
Idaho | Clearwater Lewis | 799,716 | Nez Perce Reservation. Nez Perce Reservation.
Illinois | Cook | 797,309 | Cicero, Berwyn, Maywood, and Bellwood.
| Madison | 1,140,052 | Towns of Alton, Granite City, Pontoon Beach, Venice, Collinsville, and E. Alton.
| Peoria | 686,875 | City of Peoria.
| Sangamon | 807,911 | Entire county.
Indiana | Clay Owen Putnam | 334,266 | Entire county. Entire county. Entire county.
| Madison | 481,404 | Entire county.
Iowa | Hadin | 953,382 | Ackley, Alden, Buckeye, Eldora, Garden City, Gifford, Hubbard, Iowa Falls, New Providence, Owasa, Radcliffe, Steamboat Rock, Union.
| Marshall |  | Albion, Clemons, Dunbar, Ferguson, Gilman, Green Mountain, Haverhill, Larnoille, Laural, LeChwid, Liscomb, Marshalltown, Melbourne, Quarry, Rbodes, St. Anthony, State Center.
| Poweshiek |  | Baxter, Brooklyn, Deep River, Grinnell, Cuernsey, Hartwick, Lynnville, Malcom, Montezuma Searsboro.
| Story |  | Ames, Cambridge, Collins, Colo, Fernald, Gilbert, Huxley, Iowa Center, McCallsburg, Maxwell, Nevada, Roland, Slater, Story City, Zcaring.
| Tama |  | Buckingham, Chelsea, Clutier, Dinsdale, Dysart, Elberom Garwin, Gladbrook, Haven, Lincoln, Montour, Tama, Toledo, Traer, Vining.
| Polk | 513,482 | City of Des Moines metropolitan area.
Kansas | Wyandotte | 1,302,101 | Wyandotte/Douglas county line to the West, Wyandotte/Johnson county line to the South, Kansas/Missouri state line to North and East.
Kentucky | Christian Daviess Ohio | 1,225,952 | Hopkinsville. Owensburg. Entire county.
| Clay Harlan Knox | 1,146,633 | Entire county. Entire county. Entire county.
Maine | Androscoggin Franklin | 686,948 | Livermore Falls and Livermore. Entire county.
| Southern Oxford | 988,204 | Grafton, Andover, North Surplus, and Byron.
Maryland | Montgomery | 782,515 | Rockville South of Route 28, Silver Spring and Tacoma Park.
| Prince George's |  | Hyattsville, Riverdale and Langley Park.
Massachusetts | Middlesex | 787,111 | Lowell.
Michigan | Antrim Benzie Charlevoix Emmet Grand Traverse Kalkaska Leelanau Roscommon Missaukee Wexford | 882,730 | Entire county. Entire county. Entire county. Entire county. Entire county. Entire county. Entire county. Entire county. Entire county. Entire county.
| Clare Gladwin Mecosta Midland Osceola | 1,288,685 | Entire county. Entire county. Entire county. Entire county. Entire county.
| Delta Menominee Schoolcraft | 635,322 | Entire county. Entire county. Entire county.
| Genesee | 852,969 | Carman Ainsworth School District and Bendel School District.
| Hillsdale | 898,235 | North of Ohio State border, South of US-12 and Moscow Rd., East of M-49, and West of US-127; cities and towns of Camden, Hillsdale, Jonesville, Litchfield, North Adams, Pittsford, Reading and Waldren.
| Jackson |  | North of I-94 to Seymore Rd., South of I-94 to US-12, East of US-127 to Clear Lake Rd., West of US-127 to M-99. The cities and towns of Brooklyn, Cement City, Clarke Lake, Concord, Grass Lake, Horton, Jackson, Michigan Center, Napolean, Parma, Spring Arbor, and Springport.
| Ottawa | 232,085 | Town of Ferrysburg, Grand Haven Township, Spring Lake Township, Crockery Township, and Robinson Township.
| Wayne | 1,204,280 | The following neighborhoods are being served within the City of Detroit: neighborhoods bounded to the: (1) North by Woodland Street, to the East by Oakland Street, to the South by Warren Avenue and to the West by Byron Street: (2) North by Fullerton Street, to the East by Byron Street, to the South by W. Grand Blvd, and to the West by Holmur Street: (3) North by Puritan Street, to the East by Thomson Street, to the South by Fullerton Street and to the West by Meyers Road; (4) North by 8 Mile Road, to the East by Southfield Fwy, to the South by Puritan Street and to the West by Five Points Street: (5) North by Puritan Street, to the East by Southfield Fwy, to the South by Fullerton Street, and to the West by Telegraph Road.
Minnesota | Hennepin | 560,976 | American Indian children and families from the communities of North Minneapolis, Phillips, and Northeast Minneapolis.
Missouri | Jackson | 793,751 | North: Missouri River, St. John Ave., Anderson St., to 9th St.; West: State Line Rd. to Oak St.; South: 112th St. to 95th St.; East: Hillcrest to Blue Ridge Cutoff.
Nebraska | Douglas | 784,121 | City of Omaha North—I-680; South—Harrison Street (Sarpy County Line); East—Iowa State Line; West—72th Street.
| Scotts Bluff | 472,303 | Entire county.
New Jersey | Camden Essex | 832,809 783,717 | City of Camden. City of East Orange.
New York | Allegheny | 323,672 | Entire county.
| Bronx | 847,985 | Kingsbridge Hgts and Sputen Duyvil Community Bd 8; University Hgts, Bedford Park Community Bd 7; Fordham, Morris Hgts Community Bd 5: Highbridge Community Bd 4.
| Kings |  | Teenage girls attending Board of Education LYFE program in Brooklyn. Students live throughout the county.
| Manhattan |  | Teenage girls attending Board of Education LYFE program on the Lower East Side. Students live throughout the county.
| Manhattan | 785,433 | West 4th, Brooklyn Bridge , Bowery, Canal, Baxter Street and New Street Boundaries.
| Manhattan | 696,374 | Lower Eastside Manhattan North of Broadway and South of 14th St., Chelsea West of 7th Ave., and South of 34th Street.
| Manhattan | 585,884 | Washington Heights PS District 5 & 8.
| Queens | 896,332 | Entire community of Rockaway.
| Rockland | 817,268 | Monsey, Spring Valley, Kaser.
| Saratoga | 998,746 | Corrinth School District, Saratoga Springs School District, Ballston Spa School District, Mechanisville School District.
North Dakota | Carson Sioux | 797,487 | Boundaries of Standing Rock Reservation. Boundaries of Standing Rock Reservation.
Ohio | Cuyahoga | 1,123,827 | City of Cleveland, Glenville, Hough Detroit-Shoreway, Clark-Fulton; City of East Cleveland.
| Darke Greene Miami Shelby | 1,016,161 | Entire County. Entire county. Entire County. Entire county.
Pennsylvania | Allegheny | 1,769,081 | (1) Clairton: City of Clairton, West Mifflin Estates, Wilson, Jefferson, Classport, Elizabeth, Dravosburg; (2) Storox: McKees Rocks Borough, Kennedy Township, Esplen, Neville Island, Stowe Township; (3) Hill District: Uptown, Upper Hill, Middle Hill, Lower Hill, South Oakland, and North Oakland.
| Beaver County | 682,291 | Entire County.
| Lehigh | 782,515 | Entire County.
| Westmoreland | 541,092 | Entire County.
Rhode Island | Kent Providence | 792,311 97,720 | Coventry, W. Warwick. Cranston.
South Carolina | Sumter | 767,503 | Sumter, Mayesville, Dalzell, Wedgefield, Shaw AFB, Pinewood, Rembert, within the city limits and the eastern section of Sumter County.
South Dakota | Brookings Codington Hamlin Lake Minnehaha Moody | 632,345 | Entire County. Entire County. Entire County. Entire County. Entire County. Entire County.
| Pennington Meade | 795,140 | Entire County.
Tennessee | Carroll Fayette Lauderdale Madison Obion Tipton | 962,463 | Entire County. Entire County. Entire County. Entire County. Entire County. Entire County.
Texas | Brooks | 1,396,623 | Falfurrias: (1) Area bordered by San Saba Street to the South, West Garret Street to the North, North Center Street to the East and North Chester Street to the West. (2) Area bordered by East Lamar on the North, East Forrest Street on the South, North Lincoln on the East and North Williams Street on the West.
| Jim Wells |  | (1) City of Alice: an area bordered by Loma Street on the North, on the East by Texas Blvd., on the South by Hill Street and on the West by Cameron Street; and area bounded by Sain Street on the North, Sea Breeze on the South, Texas Blvd. on the West and Stadium Road on the East; (2) City of Premont; and (3) City of Orange Cove.
| Kleberg |  | City of Kingsville: (1) an area bordered by Corral road on the South, Armstrong Road on the East, University Blvd. on the West and Avenue F on the North; (2) W. General Cavos on the South, Sixth Street to the West, Fourteen Street to the East and Ailsle Avenue to the North.
| Hays | 896,949 | (1) San Marcos: an area encompassed by the San Marcos CISD (Consolidated Independent School District); (2) Hayes, an area encompassed by the Hays City CISD.
| Travis | 1,043,545 | City of Austin: an area bounded by Lamar on the West, Highway 183 on the East, Highway 290 on the North and William Cannon Drive on the South.
Utah | Box Elder | 837,767 | Brigham City, Fielding, Garden City Garland , Thatcher, Tremonton.
| Cache |  | College Ward, Hyde Park, Hyrum, Logan, Mendon, Millville, Nibley, North Logan, Richmond, River Heights Smithfield , Wellsville.
| Franklin |  | Fairview, Preston.
Vermont | Caledonia Essex Orleans | 758,708 | Entire county. Entire county. Entire county.
| Windham | 1,267,639 | Entire County.
Virginia | Buchanan, Dickenson Russel Washington | 425,640 | Entire county. Entire county. Entire county. Entire county & City of Bristol.
| Fairfax | 904,938 | Southern Fairfax County from I-495 to Prince William County.
Washington | King | 2,438,043 | Communities of Kent, Renton, Auburn, Skyway, Tukwila, Southeast King County, and Federal Way.
| Walla Walla |  | The greater Walla Walla area, the City of Walla Walla and the surrounding metropolitan area, including the communities of College Place and the Farm Labor Camp.
| Yakima | 695,870 | Grandview, Mabton, Sunnyside, Granger, Toppenish, White Swan.
Wisconsin | Barron, Chippewa Dunn | 857,201 | Entire county. Entire county. Entire county.
| Milwaukee | 620,590 | City of Milwaukee: Bounded by: North: Capital Drive, East: Highway 43, South: Wisconsin Avenue, and West: Sherman.

[FR Doc. 00-23407 Filed 9-12-00; 8:45 am]

BILLING CODE 4184-01-P